OFFICE OF THE UNITED STATES TRADE REPRESENTATIVE

Notice of Meeting of the President‘s Advisory Committee on Trade Policy and Negotiations (ACTPN)

AGENCY: Office of the United States Trade Representative.

ACTION: Notice that the March 1, 2000, meeting of the President‘s Advisory Committee on Trade Policy and Negotiations will be held from 8:00 a.m. to 12:00 noon. The meeting will be closed to the public from 8:00 a.m. to 11:30 a.m. and open to the public from 11:30 a.m. to 12:00 noon.

SUMMARY: The President‘s Advisory Committee on Trade Policy and Negotiations will hold a meeting on March 1, 2000 from 8:00 a.m. to 12:00 noon. The meeting will be closed to the public from 8:00 a.m. to 11:30 a.m. The meeting will include a review and discussion of current issues which influence U.S. trade policy. Pursuant to Section 2155(f)(2) of Title 19 of the United States Code, I have determined that this meeting will be concerned with matters the disclosure of which would seriously compromise the development by the United States Government of trade policy, priorities, negotiating objectives or bargaining positions with respect to the operation of any trade agreement and other matters arising in connection with the development, implementation and administration of the trade policy of the United States. The meeting will be open to the public and press from 11:30 a.m. to 12:00 noon, when trade policy issues will be discussed. Attendance during this part of the meeting is for observation only. Individuals who are not members of the committee will not be invited to comment.

DATES: The meeting is scheduled for March 1, 2000, unless otherwise notified.

ADDRESSES: The meeting will be held at the USTR ANNEX Building in Conference Rooms 1 and 2, located at 1724 F Street, NW, Washington, D.C., unless otherwise notified.

FOR FURTHER INFORMATION CONTACT: Ladan Manteghi, Office of the United States Trade Representative, (202) 395-6120.

Charlene Barshefsky,
United States Trade Representative.

[FR Doc. 00-4222 Filed 2-22-00; 8:45 am]

BILLING CODE 3910-01-M